DEPARTMENT OF TRANSPORTATION

Federal Motor Carrier Safety Administration

[Docket No. FMCSA-2006-27393]

Agency Information Collection Activities; Request for Comments; Notice of Intent To Survey Motor Carriers Operating Small Passenger-Carrying Commercial Motor Vehicles

AGENCY: Federal Motor Carrier Safety Administration (FMCSA), DOT.

ACTION: Notice and request for comments; reopening of comment period.

SUMMARY: The Federal Motor Carrier Safety Administration (FMCSA) is reopening the comment period on its April 6, 2007, notice and request for comments concerning a proposed survey of motor carriers operating small-passenger-carrying commercial motor vehicles to obtain additional feedback from motor carriers and interested parties.

DATES: Comments must be submitted on or before October 11, 2007. OMB must receive your comments by this date to act quickly on the request.

ADDRESSES: Send comments to the Office of Information and Regulatory Affairs, Office of Management and Budget, 725 Seventeenth Street, NW., Washington, DC 20503, Attention: DOT/FMCSA Desk Officer.

FOR FURTHER INFORMATION CONTACT: Mr. Peter Chandler, Federal Motor Carrier Safety Administration, DOT, Office of Enforcement and Compliance, Commercial Passenger Carrier Safety Division, 1200 New Jersey Avenue, SE., Washington, DC 20590, phone (202) 366-5763, fax (202) 366-3621, e-mail peter.chandler@dot.gov. Office hours are from 8 a.m. to 4 p.m., e.t., Monday through Friday, except Federal holidays.

SUPPLEMENTARY INFORMATION:

Background

On April 6, 2007, FMCSA published a notice in the Federal Register (72 FR 17218), to announce that its Information Collection Request (ICR) for collecting data about motor carriers who operate small passenger-carrying commercial motor vehicles had been sent to the Office of Management and Budget (OMB) for review and approval. In the April 6th notice, the agency imposed a 30-day comment period for interested parties to comment on the survey. The comment period ended on May 7, 2007.

Purpose of Reopening the Comment Period

The comment period is being reopened to allow more time for the public to comment on this proposed survey. FMCSA is committed to obtaining information that will provide insight into the common safety and regulatory compliance challenges facing motor carriers with small passenger-carrying CMV operations. Such information provided in the comments will also be utilized by FMCSA to develop educational outreach initiatives for the affected industry segment. It is appropriate that FMCSA connect with and inform this segment of the motor carrier industry of its regulatory compliance responsibilities before implementing an enforcement program. Any information obtained will help identify specific areas of regulatory compliance that are problematic for this industry segment. The survey will also obtain needed insight about how to best provide and distribute information to the affected industry segment.

Issued on: September 4, 2007.
Terry Shelton,
Associate Administrator for Research and Information Technology.

[FR Doc. E7-17808 Filed 9-10-07; 8:45 am]

BILLING CODE 4910-EX-P